FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 16, 2016.

A. Federal Reserve Bank of Dallas (Robert L. Triplett III, Senior Vice President) 2200 North Pearl Street, Dallas, Texas 75201-2272:

1. Lee Equity Partners, LLC, Lee Equity Partners Realization Fund, L.P., Lee Equity Strategic Partners Realization Fund, L.P., Lee Equity Partners Realization Fund GP, LLC, and LEP Carlile Holdings, LLC, all of New York, New York; AlpInvest Partners B.V., AlpInvest Partners US Secondary Investments 2015 I C.V., AlpInvest Partners Secondary Investments 2015 I B.V., AlpInvest Partners US Secondary Investments 2014 II C.V., AlpInvest Partners 2014 II B.V., AM 2014 Secondary C.V., AlpInvest Mich B.V., AM 2015 Secondary C.V., AlpInvest Partners US Secondary Investments 2015 II C.V., AlpInvest Partners Secondary Investments 2015 II B.V., AlpInvest Secondaries Fund (Euro) V C.V., AlpInvest SF V. B.V., AlpInvest Secondaries Fund V C.V., AlpInvest Partners US Secondary Investments 2014 I C.V., AlpInvest Partners 2014 I B.V., GGG US Secondary C.V., AlpInvest GGG B.V., GGG US Secondary 2015 C.V., AP H Secondaries C.V., AP H Secondaries B.V., AP Fondo Secondaries C.V., AlpInvest Fondo B.V., AlpInvest GA Secondary C.V., AlpInvest GA B.V., AlpInvest A2 Investment Fund C.V., AlpInvest United B.V., AlpInvest A2 Investment Fund II C.V., Alp Holdings Ltd., Alp Intermediate Holdings 2 L.P., Alp Intermediate Holdings I Ltd., Alp Lower Holdings Ltd., Alp Holdings Cooperatief U.A., and AP B.V., all of Amsterdam, The Netherlands; and AlpInvest Partners US Secondary Investments 2014 I, LLC, AlpInvest US Holdings, LLC, The Carlyle Group L.P., Carlyle Group Management L.L.C., Carlyle Holdings III GP Management L.L.C., Carlyle Holdings III GP L.P., Carlyle Holdings III GP Sub L.L.C., Carlyle Holdings III L.P., TC Group Cayman, L.P., all of New York, New York; HarbourVest Partners, LLC, HarborVest Partners L.P., Dover Street VIII L.P., Dover VIII Associates L.P., Dover VIII Associates LLC, HarbourVest Global Annual Private Equity Fund L.P., HarbourVest Global Associates L.P., HarbourVest Global Associates LLC, HarbourVest 2015 Global Fund L.P., HarbourVest 2015 Global Associates L.P., HarbourVest 2015 Global Associates LLC, HarbourVest Partners X Secondary L.P., HarbourVest X Associates LLC, HarbourVest Partners IX-Credit Opportunities Fund L.P., HarbourVest IX Credit Opportunities Associates L.P., HarbourVest IX-Credit Opportunities Associates LLC, HIPEP VII Secondary L.P., HarbourVest Partners X Venture Fund L.P., HarbourVest Partners X Buyout Fund L.P., HarbourVest Partners X AIF Venture L.P., HarbourVest Partners X AIF Buyout L.P., HIPEP VII Partnership Fund L.P., HIPEP VII (AIF) Partnership Fund L.P., HIPEP VII Asia Pacific Fund L.P., HIPEP VII (AIF) Asia Pacific Fund L.P., HIPEP VII Emerging Markets Fund L.P., HIPEP VII Europe Fund L.P., HarbourVest X Associates LLC and HIPEP VII Associates LLC, all of Boston, Massachusetts; and other affiliates; to acquire shares of Carlile Bancshares, Inc., Fort Worth, Texas, and thereby, indirectly acquire shares of, NorthStar Bank of Texas, Denton, Texas, and NorthStar Bank of Colorado, Denver, Colorado.

B. Federal Reserve Bank of St. Louis (David L. Hubbard, Senior Manager) P.O. Box 442, St. Louis, Missouri 63166-2034. Comments can also be sent electronically to Comments.applications@stls.frb.org:

1. John W. Brannan, Jr., individually and as trustee of the Bank of Prescott Employee Stock Ownership Plan, both of Prescott, Arkansas; and as a member of a family control group consisting of Janet P. McAdams; James E. Franks and Linda B. Franks, as trustees of the James E. Franks and Linda B. Franks revocable trust, all of Hot Springs, Arkansas; John Matthew Brannan; Susan Brannan Welch; Lindsay Frank Weeks; Patricia C. Thompson; and Elizabeth Thompson Horowitz, to acquire additional shares of Prescott Bancshares, Inc., Prescott, Arkansas, and thereby indirectly acquire shares of Bank of Prescott, Prescott, Arkansas.

Board of Governors of the Federal Reserve System, July 27, 2016.
Michele T. Fennell,
Assistant Secretary of the Board.

[FR Doc. 2016-18099 Filed 7-29-16; 8:45 am]

BILLING CODE 6210-01-P